DEPARTMENT OF DEFENSE

Office of the Secretary

[Docket ID: DOD-2023-OS-0045]

Privacy Act of 1974; System of Records

AGENCY: Department of Defense (DoD).

ACTION: Notice of rescindment of multiple System of Records Notices (SORNs).

SUMMARY: In accordance with the Privacy Act of 1974, the DoD is providing notice to rescind 26 Privacy Act SORNs. A description of these systems can be found in the table in the SUPPLEMENTARY INFORMATION section. Additionally, the DoD is issuing a direct final rule, published elsewhere in this issue of the Federal Register, to amend its regulation and remove the Privacy Act exemption rules for 14 SORNs (items (a) through (m), and (s) in the aforementioned table) rescinded in this notice.

DATES: The rescindment of these SORNs is effective June 30, 2023.

FOR FURTHER INFORMATION CONTACT: Ms. Rahwa Keleta, Privacy and Civil Liberties Division, Directorate for Privacy, Civil Liberties and Freedom of Information, Office of the Assistant to the Secretary of Defense for Privacy, Civil Liberties, and Transparency, Department of Defense, 4800 Mark Center Drive, Mailbox #24, Suite 08D09, Alexandria, VA 22350-1700, OSD.DPCLTD@mail.mil, (703) 571-0070.

SUPPLEMENTARY INFORMATION:

I. Background

Pursuant to the provisions of the Privacy Act of 1974, 5 U.S.C. 552a, and as part of its ongoing integration and management efforts, the DoD is removing 26 Privacy Act SORNs from its inventory. Upon review of its inventory, DoD determined it no longer needs or uses these system of records because the records are covered by other SORNs; therefore, DoD is retiring these SORNs (items (a) through (z) in the table) for reasons listed as follows.

Items (a) through (r) in the table are rescinded because the records are now maintained as part of the DoD-wide system of records titled DoD-0008, Freedom of Information Act and Privacy Act Records (FOIA/PA Records), published in the Federal Register on December 22, 2021 (86 FR 72586).

Items (s) through (w) in the table are rescinded because the records are now maintained as a part of the DoD-wide system of records titled DoD 0006, Military Justice and Civilian Criminal Case Records, published in the Federal Register on May 25, 2021 (86 FR 28086).

Items (x) through (z) in the table are rescinded because the records are now maintained as a part of the DoD-wide system of records titled DoD-0009, Defense Mass Transportation Benefits Records (DMTBR), published in the Federal Register on January 7, 2022 (87 FR 943).

DoD SORNs have been published in the Federal Register and are available from the address in FOR FURTHER INFORMATION CONTACT or at the Privacy, Civil Liberties, and Freedom of Information Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DoD has provided a report of this SORN bulk rescindment to OMB and Congress.

System name | Number | Descriptions | History
(a) Information Requests—Freedom of Information Act | F033 AF A | Was established to process FOIA requests and to assist the Department of the Air Force in carrying out responsibilities under the FOIA. | May 19, 2011, 76 FR 28963.
(b) Privacy Act Request Files | F033 AF B | Was established to record, process and coordinate individual requests for access to, or amendment of, personal records, and appeals on denials of requests for access or amendments to personal records; and to compile information for reports, and to ensure timely response to requesters under the Privacy Act. | April 07, 2003, 68 FR 16788.
(c) Privacy Case Files | A0340-21 OAA | Was established to process and coordinate requests for access to and amendment of individuals' records; to process appeals on denials of requests for access to or amendment of individuals' records by the data subject against agency rulings; and to ensure timely response to requesters under the Privacy Act. | July 11, 2014, 79 FR 40080; December 08, 2005, 70 FR 72997.
(d) FOIA Request/Appeal Files and Tracking System | NM05720-1 | Was established to track, process, and coordinate requests/appeals/litigation made under the provisions of the FOIA; to provide responses to requests, including requests for access to information regarding FOIA requests and/or what is being requested under the provisions of the FOIA; and to compile data for FOIA reporting requirements. | June 13, 2013, 78 FR 35610; April 2, 2008, 73 FR 17961.
(e) Privacy Act Request/Amendment Files and Tracking System | NM05211-1 | Was established to track, process, and coordinate individual requests for access and amendment of personal records; to process appeals on denials of requests for access or amendment to personal records; to compile information for reports; and to ensure timely response to requesters under the Privacy Act. | June 13, 2013, 78 FR 35607; April 2, 2008, 73 FR 17959.
(f) Information Requests—Freedom of Information Act (FOIA) and Privacy Act | LDIA 0010 | Was established to meet regulatory requirements of the FOIA and Privacy Act and to provide documentation in response to requests from the public sector for information, which is originated by or contained in the files of the Defense Intelligence Agency; and to provide information for compiling reports required by public disclosure statutes and to assist the Department of Justice in preparation of the Agency's defense in any lawsuit arising under these statutes. | May 03, 2012; 77 FR 26258; July 19, 2006, 71 FR 41003.
(g) Freedom of Information Act/Privacy Act Requests and Administrative Appeal Records | S510.30 | Was established to process access requests and administrative appeals under the FOIA, access and amendment requests and administrative appeals under the Privacy Act; for the purpose of participating in litigation regarding agency action on such requests and appeals; and for the purpose of assisting the Defense Logistics Agency in carrying out any other responsibilities under the FOIA and the Privacy Act. | April 18, 2011, 76 FR 21706.
(h) Privacy and Freedom of Information Request Records | V1-01 | Was established to facilitate responses to individual requests for information under the FOIA and Privacy Act; to document actions taken in subsequent requests (including correction and amendment actions), appeals, or litigation; and to provide a basis for reports and implementing directives. | January 28, 2013, 78 FR 5788; July 14, 1999, 64 FR 37935.
(i) Freedom of Information Act and Privacy Act Case Files | HDTRA 021 | Was established to process access requests under the FOIA and access and amendment requests under the Privacy Act; to administer appeals and litigation arising from such requests; and to assist DTRA in discharging any other responsibilities under the FOIA and the Privacy Act. | September 18, 2012; 77 FR 57561; August 7, 2006, 71 FR 44668.
(j) Freedom of Information Act (FOIA) and Privacy Act (PA) Case Files | INGB 001 | Was established to maintain FOIA and Privacy Act requests and administrative appeals; for participating in litigation regarding agency action on such requests and appeals; and for assisting the National Guard Bureau in carrying out any other responsibilities under the FOIA and Privacy Act. | July 17, 2014; 79 FR 41678.
(k) Privacy Act and Freedom of Information Act Case Files | CIG-01 | Was established to process FOIA and Privacy Act requests and administrative appeals; for participating in litigation regarding agency action on such requests and appeals; for amendment to records made under the Privacy Act and to document DoD Office of Inspector General (DoD OIG) actions in response to these requests; and for assisting the DoD OIG in carrying out any other responsibilities under the FOIA. | May 31, 2006; 71 FR 30883.
(l) Freedom of Information Act (FOIA) Case Files | DWHS E02 | Was established to process FOIA requests and administrative appeals; for participating in litigation regarding agency action on such requests and appeals; and for assisting the DoD in carrying out any other responsibilities under the FOIA. | May 21, 2015, 80 FR 29312; January 28, 2013, 78 FR 5783; December 8, 2010, 75 FR 76432.
(m) Privacy Act Case Files | DWHS E04 | Was established to process Privacy Act requests and administrative appeals; for participating in litigation regarding agency action on such requests and appeals; and for assisting the Department of Defense in carrying out any other responsibilities under the Privacy Act. | April 10, 2015, 80 FR 19293; October 29, 2012, 77 FR 65539; December 8, 2010, 75 FR 76423.
(n) Freedom of Information Act Requests | T5020 | Was established to control administrative processing of requests for information made under the provisions of the FOIA, and to record statistics for the annual FOIA report. | July 12, 2013, 78 FR 41916; December 15, 2008, 73 FR 76005.
(o) Privacy Act Request | T5020a | Was established to record, process, and coordinate individual requests for access to, or amendment of personal records, and appeals of denials of request for access or amendment to personal records, made under the Privacy Act. | June 24, 2013; 78 FR 37799; February 23, 2009, 74 FR 8064.
(p) Freedom of Information Act/Privacy Act Requests and Administrative Appeal Records | EDHA 01 | Was established to process access requests and administrative appeals under FOIA; to process access and amendment requests and administrative appeals under the Privacy Act; for litigation regarding agency action on such requests and administrative appeals; and to assist the Defense Health Agency in carrying out any other responsibility under FOIA or the Privacy Act. | August 22, 2014, 79 FR 49761.
(q) Freedom of Information Act File (FOIA) | K890.01 | Was established to make available to the public the maximum amount of information concerning the operations and activities of the Defense Information Systems Agency (DISA); to receive, process, and respond to requests for information under FOIA; to review and deny requests for information under provisions of FOIA and to forward applicable correspondence to the Director, DISA when the denial may be contested or appealed; and for review in the event of judicial action. | June 11, 2012, 77 FR 34357; March 10, 2008, 73 FR 12711.
(r) Privacy Act Records | K890.20 | Was established for the purposes of processing access and amendment requests and administrative appeals under the Privacy Act; participating in litigation regarding agency action on such requests and appeals; and assisting the Defense Information Systems Agency in carrying out any other responsibilities under the Privacy Act. | September 13, 2012, 77 FR 56630; February 22, 1993, 58 FR 10562.
(s) Military Justice and Magistrate Court Records | F051 AFJA I | Was established to investigate, adjudicate and prosecute adverse action cases, Article 138 complaints, and other administrative and criminal actions related to violation of federal law and regulations and state law occurring on and off a military installation; for use by appellate authorities and federal and state licensing authorities; for statistical purposes and to manage case processing; and to provide victims and witnesses information consistent with the requirements of the Victim and Witness Assistance Program, the Victims' Rights and Restitution Act of 1990, and other laws and regulations governing the providing of information to victims and witnesses related to military justice actions and criminal cases and their administrative disposition. | July 22, 2010, 75 FR 42720.
(t) Military Justice Correspondence and Information File | N05810-2 | Was established to provide a record of individual inquiries and Department of the Navy Judge Advocate General responses concerning military justice related matters, to maintain background information on military justice matters to assist in responding to inquiries, and to provide information and support to victims and witnesses in compliance with the Victim and Witness Assistance Program, the Sexual Assault Prevention and Response Program, and the Victims' Rights and Restitution Act of 1990. | January 08, 2001; 66 FR 1321.
(u) Magistrate Court Case Files | MJA00003 | Was established to provide a record of summons, warrants, investigative reports and complaints for use by military prosecutors in the preparation of cases of trial. | August 17, 1999, 64 FR 44698, 44702.
(v) Marine Corps Command Legal Files | MJA00009 | Was established to provide a record of actions for use by commanding officers or officers in charge who have authority to convene a special court-martial. The records are used as required to initiate, refer or complete appropriate disciplinary proceedings. | May 18, 1995, 60 FR 26723; February 8, 1995, at 60 FR 7523.
(w) JA Division, HQMC Correspondence Control Files | MJA00017 | Was established to provide a record of action taken on all correspondence received by the Judge Advocate Division, Headquarters, Marine Corps on individual inquiries. | August 03, 1993, 58 FR 41254, 41257.
(x) Transportation Incentive Program System (TIPS) | T4500c | Was established to manage the mass transportation program for Defense Finance Accounting Service (DFAS) civilian and DFAS non-appropriated fund employees who applied for and were in receipt of mass transit subsidies. | October 27, 2015, 80 FR 65717.
(y) Transportation Incentive Program Records | T4165 | Was established to support the Transportation Incentive Program for receipt and processing of employee applications; distribution of fare media; to reimburse participants; to track the use of funds used to support the program; to evaluate employee participation in the program; and to prevent misuse of the funds involved for participants outside the National Capitol Region. Participant records were used by the DFAS site parking authorities for the purpose of identifying those individuals who receive a fare subsidy and also make use of a DFAS site parking sticker. | February 10, 2009, 74 FR 6583.
(z) Mass Transportation Benefit Program—Outside the National Capital Region (ONCR) | S400.30 | Was established to manage the Defense Logistics Agency Mass Transportation Benefit Program for participants Outside the National Capitol Region, including receipt and processing of employee applications and distribution of the fare media to employees; to reimburse participants; to track the use of funds used to support the program; to evaluate employee participation in the program; to prevent misuse of the funds involved; and to identify individuals who receive a fare subsidy and also make use of a DLA Primary Level Field Activity parking sticker. | May 03, 2012, 77 FR 26261; September 22, 2009, 74 FR 48233.

Dated: June 27, 2023.
Aaron T. Siegel,
Alternate OSD Federal Register Liaison Officer, Department of Defense.

[FR Doc. 2023-13970 Filed 6-29-23; 8:45 am]

BILLING CODE 5001-06-P